NUCLEAR REGULATORY COMMISSION

[NRC-2015-0285]

Containment Shell or Liner Moisture Barrier Inspection

AGENCY: Nuclear Regulatory Commission.

ACTION: Regulatory issue summary; issuance.

SUMMARY: The U.S. Nuclear Regulatory Commission (NRC) is issuing Regulatory Issue Summary (RIS) 2016-07, “Containment Shell or Liner Moisture Barrier Inspection.” This RIS reiterates the NRC staff's position regarding American Society of Mechanical Engineers (ASME) code inservice inspection requirements for moisture barriers. The NRC's regulations require, in part, that licensees implement the inservice inspection program for pressure retaining components and their integral attachments of metal containments and metallic liners of concrete containments in accordance with the ASME Code. If a material prevents moisture from contacting inaccessible areas of the containment shell or liner, especially if the material is being relied upon in lieu of augmented examinations of a susceptible location, the material must be inspected as a moisture barrier. The applicable ASME Code sections require licensees to inspect 100 percent of accessible moisture barriers during each inspection period.

DATES: The RIS is available as of May 23, 2016.

ADDRESSES: Please refer to Docket ID NRC-2015-0285 when contacting the NRC about the availability of information regarding this document. You may obtain publicly-available information related to this document using any of the following methods:

• Federal Rulemaking Web site: Go to http://www.regulations.gov and search for Docket ID NRC-2015-0285. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. This RIS is available under ADAMS Accession No. ML16068A436.

• NRC's PDR: You may examine and purchase copies of public documents at the NRC's PDR, Room O1-F21, One White Flint North, 11555 Rockville Pike, Rockville, Maryland 20852.

• This RIS is also available on the NRC's public Web site at http://www.nrc.gov/reading-rm/doc-collections/gen-comm/reg-issues/ (select “2016” and then select “2016-07”).

FOR FURTHER INFORMATION CONTACT: Bryce Lehman, Office of Nuclear Reactor Regulation, U.S. Nuclear Regulatory Commission, Washington, DC 20555-0001; telephone: 301-415-1626; email: Bryce.Lehman@nrc.gov.

SUPPLEMENTARY INFORMATION: The NRC published a notice of opportunity for public comment on this RIS in the Federal Register (80 FR 80401) on December 24, 2015. The agency received comments from four commenters. The staff considered all comments, which resulted in minor revisions to the RIS. The evaluation of these comments and the resulting changes to the RIS are discussed in a publicly-available memorandum which is available in ADAMS under Accession No. ML16060A450.

Dated at Rockville, Maryland, this 17th day of May 2016.
For the Nuclear Regulatory Commission.
Sheldon D. Stuchell,
Chief, Generic Communications Branch, Division of Policy and Rulemaking, Office of Nuclear Reactor Regulation.

[FR Doc. 2016-12039 Filed 5-20-16; 8:45 am]

BILLING CODE 7590-01-P